NUCLEAR REGULATORY COMMISSION

Correction to Biweekly Notice Applications and Amendments to Operating Licenses Involving No Significant Hazards Consideration

On January 7, 2003, the Federal Register published the “Biweekly Notice of Applications and Amendments to Operating Licenses Involving No Significant Hazards Considerations.” On page 808, for GPU Nuclear Corporation and Saxton Nuclear Experimental Corporation, Table 1, last column total “2.70e+05” should read “3.23e-04.”

Dated at Rockville, Maryland, this 15th day of January, 2003.
For the Nuclear Regulatory Commission.
John A. Zwolinski,
Director, Division of Licensing Project Management, Office of Nuclear Reactor Regulation.

[FR Doc. 03-1331 Filed 1-21-03; 8:45 am]

BILLING CODE 7590-01-P